DEPARTMENT OF DEFENSE

Office of the Secretary

[Transmittal Nos. 15-05]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-05 with attached transmittal, policy justification, and Sensitivity of Technology.

Dated: April 9, 2015.
Aaron Siegel,
Alternate OSD Federal Register Liaison Officer, Department of Defense.

Transmittal No. 15-05

Notice of Proposed Issuance of Letter of Offer Pursuant to Section 36(b)(1) of the Arms Export Control Act, as Amended

(i) Prospective Purchaser: Pakistan

(ii) Total Estimated Value:

Major Defense Equipment | $645 million
Other | 307 million
Total | 952 million
* as defined in Section 47(6) of the Arms Export Control Act.

(iii) Description and Quantity or Quantities of Articles or Services under Consideration for Purchase: 15 AH-1Z Viper Attack Helicopters, 32 T-700 GE 401C Engines (30 installed and 2 spares), 1000 AGM-114 R Hellfire II Missiles in containers, 36 H-1 Technical Refresh Mission computers, 17 AN/AAQ-30 Target Sight Systems, 30 629F-23 Ultra High Frequency/Very High Frequency Communication Systems, 19 H-764 Embedded Global Positioning System/Inertial Navigation Systems, 32 Helmet Mounted Display/Optimized Top Owl, 17 APX-117A Identification Friend or Foe, 17 AN/AAR-47 Missile Warning Systems, 17 AN/ALE-47 Countermeasure Dispenser Sets, 18 APR-39C(V)2 Radar Warning Receivers, 15 Joint Mission Planning Systems, and 17 M197 20mm Gun Systems. Also included are system integration and testing, software development and integration, aircraft ferry, support equipment, spare and repair parts, tools and test equipment, publications and technical documentation, personnel training and training equipment, U.S. government and contractor engineering, technical, and logistics support services, and other related elements of logistics and program support.

(iv) Military Department: Navy (SBO); Army (WAX)

(v) Prior Related Cases, if any: None

(vi) Sales Commission, Fee, etc., Paid, Offered, or Agreed to be Paid: None

(vii) Sensitivity of Technology Contained in the Defense Article or Defense Services Proposed to be Sold: See Annex attached.

(viii) Date Report Delivered to Congress: 06 April 2015

Policy Justification

Pakistan—AH-1Z Viper Attack Helicopters and AGM-114R Hellfire II Missiles

The Government of Pakistan has requested a possible sale of 15 AH-1Z Viper Attack Helicopters, 32 T-700 GE 401C Engines (30 installed and 2 spares), 1000 AGM-114 R Hellfire II Missiles in containers, 36 H-1 Technical Refresh Mission computers, 17 AN/AAQ-30 Target Sight Systems, 30 629F-23 Ultra High Frequency/Very High Frequency Communication Systems, 19 H-764 Embedded Global Positioning System/Inertial Navigation Systems, 32 Helmet Mounted Display/Optimized Top Owl, 17 APX-117A Identification Friend or Foe, 17 AN/AAR-47 Missile Warning Systems, 17 AN/ALE-47 Countermeasure Dispenser Sets, 18 AN/APR-39C(V)2 Radar Warning Receivers, 15 Joint Mission Planning Systems, and 17 M197 20mm Gun Systems. Also included are system integration and testing, software development and integration, aircraft ferry, support equipment, spare and repair parts, tools and test equipment, publications and technical documentation, personnel training and training equipment, U.S. government and contractor engineering, technical, and logistics support services, and other related elements of logistics and program support. The total estimated cost is $952 million.

This proposed sale will contribute to the foreign policy and national security of the United States by helping to improve the security of a country vital to U.S. foreign policy and national security goals in South Asia.

This proposed sale of helicopters and weapon systems will provide Pakistan with military capabilities in support of its counterterrorism and counter-insurgency operations in South Asia.

This proposed sale will provide Pakistan with a precision strike, enhanced survivability aircraft that it can operate at high-altitudes. By acquiring this capability, Pakistan will enhance its ability to conduct operations in North Waziristan Agency (NWA), the Federally Administered Tribal Areas (FATA), and other remote and mountainous areas in all-weather, day-and-night environments. Pakistan will have no difficulty absorbing these helicopters into its armed forces.

The proposed sale of this equipment and support will not alter the basic military balance in the region.

The principal contractors will be Bell Helicopter, Textron in Fort Worth, Texas; General Electric in Lynn, Massachusetts; The Boeing Company in Huntsville, Alabama; and Lockheed Martin in Bethesda, Maryland. There are no known offset agreements proposed in conjunction with this potential sale.

Implementation of this proposed sale will require multiple trips by U.S. Government and contractor representatives to participate in program and technical reviews, as well as training and maintenance support in country for a period of 66 months. It will also require three contractor representatives to reside in country for a period of three years to support this program.

There will be no adverse impact on U.S. defense readiness as a result of this proposed sale.

Transmittal No. 15-05

Notice of Proposed Issuance of Letter of Offer Pursuant to Section 36(b)(1) of the Arms Export Control Act, as Amended Annex Item No. vii

(vii) Sensitivity of Technology:

1. The AH-1Z Viper Attack Helicopter is a twin-engine attack helicopter that features a four-blade, bearingless, composite main rotor system, upgraded transmission, and a new target sighting system. The AH-1Z incorporates new rotor technology with upgraded military avionics, weapons systems, and electro-optical sensors in an integrated weapons platform. It has improved survivability and can find targets at longer ranges and attack them with precision weapons. The blades are made of composites, which have an increased ballistic survivability, and there is a semiautomatic folding system for stowage aboard amphibious assault ships. Its two redesigned wing stubs are longer, having stations for 2.75-inch (70 mm) Hydra 70 rocket pods and AGM-114 R NON-NATO Hellfire quad missile launchers.

a. The integrated avionics system (IAS) includes two mission computers and an automatic flight control system. Each crew station has two 8x6-inch multifunction liquid crystal displays (LCD) and one 4.2x4.2-inch dual function LCD display. The communications suite will have an ARC 210 629F-23 (NON COMSEC) Ultra High Frequency/Very High Frequency (UHF/VHF) radio, and associated communications equipment. The navigation suite includes a Honeywell H-764 Embedded Global Positioning System/Inertial Navigation System (EGIs), a digital map system and a low-airspeed air data subsystem, which allows weapons delivery when hovering.

b. The crew is equipped with the Optimized Top Owl (OTO) helmet-mounted sight and display system. The OTO has a Day Display Module (DDM) and a Night Display Module (NDM) harmonized to a night vision goggle to provide day/night capability. The AH-1Z has survivability equipment including the AN/AAR-47 Missile Warning and Laser Detection System, AN/ALE-47 Counter Measure Dispensing System (CMDS) and the AN/APR-39C(V)2 Radar Warning Receiver to cover countermeasure dispensers, radar warning, incoming/on-way missile warning and on-fuselage laserspot warning systems.

c. The AN/AAQ-30 Target Sight System (TSS) is the multi-sensor electro-optical/infrared (EO/IR) fire control system. The TSS provides target sighting in day, night or adverse weather conditions. It has a large aperture midwave Forward-Looking Infrared (FLIR) sensor, color television, laser designator/rangefinder and an on-gimbal inertial measurement unit integrated into a highly stabilized turret mounted to the nose of the aircraft. The TSS provides the capability to identify and laser-designate targets at maximum weapon range, significantly enhancing platform survivability and lethality. The TSS hardware is unclassified, but the laser designation implementation is classified Confidential.

d. The AN/AAR-47 Missile Warning System is unclassified. The AN/AAR-47 is a missile approach warning system used to notify the pilot of threats and to trigger the aircraft's countermeasures systems. The Operational Flight Program (OFP) and User Data Files used on the AN/AAR-47 are classified Secret. The software programs contain threat parametric data used to identify and establish priority of detected radar emitters.

e. The AN/ALE-47 Countermeasures Dispensing System is Unclassified. AN/AAR-47 is a threat-adaptive dispensing system that dispenses chaff, and flares for self-protection against airborne and ground-based Radio Frequency and Infrared threats. The AN/AAR-47OFP and Mission Data Files used in the AN/AAR-47 are classified Secret.

f. The AN/APR-39C(V)2 Radar Warning Receiver is unclassified. The AN/APR-39C(V)2 system detects the radio emissions of radar systems that might be a threat. The warning can then be used, manually or automatically, to evade the detected threat. The AN/APR-39C(V)2, OFP, and Mission Data Files used in the AN/AAR-47 are classified Secret.

g. The Rockwell Collins 629F-23 is an exportable version the ARC-210 programmable digital communication system. The 629F-23 is a fully digital transceiver, with performance from 30 to 512 MHz and provides interoperability between ground and airborne military forces and land-based civil agencies. The 629F-23 is Unclassified. This version does not offer a SAT COM or COMSEC capability.

h. The AN/APX-117 is a combined interrogator/transponder and is unclassified. The AN/APX-117 Identification Friend or Foe (IFF) is an exportable version of the USMC AN/APX-118 IFF with Modes 1,2,3,4, and Mode 5 capable being provided.

i. The H-1 Technical Refresh Mission Computer (TRMC) is an upgrade to the H-1 weapon system. The TRMC will contain the mission processor, video/graphics processing, and I/O required interfacing the TRMC with other elements of the Integrated Avionics Suite. The TRMC hardware is Unclassified. The OFP and Data Files used in the TRMC are classified Secret.

j. The crew is equipped with the Optimized Top Owl (OTO) helmet-mounted sight and display system. The OTO has a Day Display Module (DDM) and a Night Display Module (NDM to provide day/night capability.)

k. The H764 Embedded Global Positioning System/Inertial Navigation Systems (EGIs) is a modification of the H-1 CN-1689(V)13 units used on the USMC AH-1Z and UH-1Y to meet export requirements. The export version will remove the Precise Positioning Service-Security Module (PPS_SM) and replace it with a Standard Positioning service (SPS) GPS Receiver. The classification of the EGI is Unclassified.

l. The AGM-114 R Hellfire II missile is an air-to-surface missile with a multi-mission, multi-target, precision strike capability. The Hellfire can be launched from multiple air platforms and is the primary precision weapon for the United States Army.

m. The highest level for release of the AGM-114 R Hellfire II is Secret, based upon the software. The highest level of classified information that could be disclosed by a proposed sale or by testing of the end item is Secret; the highest level that must be disclosed for production, maintenance, or training is Confidential. Reverse engineering could reveal Confidential information. Vulnerability data, countermeasures, vulnerability/susceptibility analyses, and threat definitions are classified Secret or Confidential.

n. The M197 20mm Gun System is a three-barreled electric Gatling-type rotary cannon used by the USMC AH-1Z aircraft. The Gun System incorporates a link less feed system that corrects problems with jamming. The system is capable of holding 650 rounds in the storage unit. The Gun system is Unclassified.

o. The Joint Mission Planning Systems (JMPS) provide support for unit-level mission planning for all phases of military flight operations and have the capability to provide necessary mission data for the aircrew. JMPS will support the downloading of data to electronics data transfer devices for transfer to aircraft and weapon systems. The JMPS will be tailored to the specific releasable configuration for the AH-1Z. The Joint Mission Planning System is Secret.

2. If a technologically advance adversary were to obtain knowledge of the specific hardware and software elements, the information could be used to develop countermeasures or equivalent system with might reduce weapon system effectiveness or be used in the development of a system with similar or advanced capabilities.

3. A determination has been made that the Government of Pakistan can provide substantially the same degree of protection for the sensitive technology being released as the U.S. Government. This sale is necessary in furtherance of the U.S. foreign policy and national security objectives outlined in the Policy Justification.

4. All defense articles and services listed in this transmittal have been authorized for release and export to the Government of Pakistan.

[FR Doc. 2015-08525 Filed 4-13-15; 8:45 am]

BILLING CODE 5001-06-P